DEPARTMENT OF THE TREASURY

Office of Thrift Supervision

IndyMac Federal Bank, FSB; Pasadena, CA; Notice of Appointment of Receiver

Notice is hereby given that, on March 19, 2009, pursuant to the authority contained in section 5(d)(2) of the Home Owners' Loan Act, the Office of Thrift Supervision (OTS) replaced the Federal Deposit Insurance Corporation (FDIC) as conservator for IndyMac Federal Bank, FSB, Pasadena, California (Association) with the FDIC as Receiver for the Association and OTS duly appointed the FDIC as sole receiver for the Association (OTS Order No. 2009-17).

Dated: March 27, 2009.
By the Office of Thrift Supervision.
Sandra E. Evans,
Federal Register Liaison.

[FR Doc. E9-7369 Filed 4-2-09; 8:45 am]

BILLING CODE 6720-01-M